OFFICE OF SCIENCE AND TECHNOLOGY POLICY

Request for Information on Artificial Intelligence

ACTION: Notice of Request for Information.

SUMMARY: Artificial intelligence (AI) technologies offer great promise for creating new and innovative products, growing the economy, and advancing national priorities in areas such as education, mental and physical health, addressing climate change, and more. Like any transformative technology, however, AI carries risks and presents complex policy challenges along a number of different fronts. The Office of Science and Technology Policy (OSTP) is interested in developing a view of AI across all sectors for the purpose of recommending directions for research and determining challenges and opportunities in this field. The views of the American people, including stakeholders such as consumers, academic and industry researchers, private companies, and charitable foundations, are important to inform an understanding of current and future needs for AI in diverse fields. The purpose of this RFI is to solicit feedback on overarching questions in AI, including AI research and the tools, technologies, and training that are needed to answer these questions.

DATES: Responses must be received by July 22, 2016 to be considered.

ADDRESSES: You may submit comments by any of the following methods:

• Webform: https://www.whitehouse.gov/webform/rfi-preparing-future-artificial-intelligence

• Fax: (202) 456-6040, Attn: Terah Lyons.

• Mail: Attn: Terah Lyons, Office of Science and Technology Policy, Eisenhower Executive Office Building, 1650 Pennsylvania Ave. NW., Washington, DC 20504. Please allow sufficient time for mail security processing. Comments must be received by July 22, 2016, to be considered.

Instructions: Response to this RFI is voluntary. Responses exceeding 2,000 words will not be considered. Respondents need not reply to all questions; however, they should clearly indicate the number of each question to which they are responding. Brevity is appreciated. Responses to this RFI may be posted without change online. OSTP therefore requests that no business proprietary information or personally identifiable information be submitted in response to this RFI. Please note that the U.S. Government will not pay for response preparation, or for the use of any information contained in the response.

SUPPLEMENTARY INFORMATION: On May 3, 2016, the White House Office of Science and Technology Policy announced a number of new actions related to AI: https://www.whitehouse.gov/blog/2016/05/03/preparing-future-artificial-intelligence. As a part of this initiative, the Federal Government is working to leverage AI for public good and to aid in promoting more effective government. OSTP is in the process of co-hosting four public workshops in 2016 on topics in AI in order to spur public dialogue on these topics and to identify challenges and opportunities related to this emerging technology. These topics include the legal and governance issues for AI, AI for public good, safety and control for AI, and the social and economic implications of AI. A new National Science and Technology Council (NSTC) Subcommittee on Machine Learning and Artificial Intelligence has also been established. This group will monitor state-of-the-art advances and technology milestones in artificial intelligence and machine learning within the Federal Government, in the private sector, and internationally, as well as help coordinate Federal activity in this space. Ultimately, dialogue from these workshops and the efforts of the NSTC Subcommittee may feed into the development of a public report.

The Administration is working to leverage AI as an emergent technology for public good and toward a more effective government. Applications in AI to areas of government that are not traditionally technology-focused are especially significant; there are myriad opportunities to improve government services in areas related to urban systems and smart cities, mental and physical health, social welfare, criminal justice, and the environment. There is also tremendous potential in AI-driven improvements to programs that help disadvantaged and vulnerable populations.

OSTP is particularly interested in responses related to the following topics: (1) The legal and governance implications of AI; (2) the use of AI for public good; (3) the safety and control issues for AI; (4) the social and economic implications of AI; (5) the most pressing, fundamental questions in AI research, common to most or all scientific fields; (6) the most important research gaps in AI that must be addressed to advance this field and benefit the public; (7) the scientific and technical training that will be needed to take advantage of harnessing the potential of AI technology, and the challenges faced by institutions of higher education in retaining faculty and responding to explosive growth in student enrollment in AI-related courses and courses of study; (8) the specific steps that could be taken by the federal government, research institutes, universities, and philanthropies to encourage multi-disciplinary AI research; (9) specific training data sets that can accelerate the development of AI and its application; (10) the role that “market shaping” approaches such as incentive prizes and Advanced Market Commitments can play in accelerating the development of applications of AI to address societal needs, such as accelerated training for low and moderate income workers (see https://www.usaid.gov/cii/market-shaping-primer); and (11) any additional information related to AI research or policymaking, not requested above, that you believe OSTP should consider.

FOR FURTHER INFORMATION CONTACT: Terah Lyons, (202) 456-4444, Tech_Innovation@ostp.eop.gov, OSTP.

Ted Wackler,
Deputy Chief of Staff.

[FR Doc. 2016-15082 Filed 6-24-16; 8:45 am]

BILLING CODE 3270-F5-P